SMALL BUSINESS ADMINISTRATION

[Disaster Declaration #20977 and #20978; KENTUCKY Disaster Number KY-20013]

Presidential Declaration Amendment of a Major Disaster for the Commonwealth of Kentucky

AGENCY: U.S. Small Business Administration.

ACTION: Amendment 5.

SUMMARY: This is an amendment of the Presidential declaration of a major disaster for the Commonwealth of Kentucky (FEMA-4860-DR), dated February 24, 2025.

Incident: Severe Storms, Straight-line Winds, Flooding, Landslides, and Mudslides.

DATES: Issued on April 21, 2025.

Incident Period: February 14, 2025, through March 7, 2025.

Physical Loan Application Deadline Date: May 25, 2025.

Economic Injury (EIDL) Loan Application Deadline Date: November 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the Commonwealth of Kentucky, dated February 24, 2025, is hereby amended to extend the deadline for filing applications for physical damages as a result of this disaster to May 25, 2025.

All other information in the original declaration remains unchanged.

(Catalog of Federal Domestic Assistance Number 59008)

James Stallings,
Associate Administrator, Office of Disaster Recovery & Resilience.

[FR Doc. 2025-07197 Filed 4-25-25; 8:45 am]

BILLING CODE 8026-09-P